NEIGHBORHOOD REINVESTMENT CORPORATION

Sunshine Act Meetings

TIME AND DATE: 1:30 p.m., Monday, October 18, 2021.

PLACE: Via Conference Call.

STATUS: This meeting will be closed to the public.

MATTERS TO BE CONSIDERED: Special Audit Committee meeting

Agenda

I. CALL TO ORDER

II. Sunshine Act Vote to Close Meeting

III. Executive Session

IV. Other Matter

V. Adjournment

CONTACT PERSON FOR MORE INFORMATION: Lakeyia Thompson, Special Assistant, (202) 524-9940; lthompson@nw.org.

Lakeyia Thompson,
Special Assistant.

[FR Doc. 2021-22089 Filed 10-6-21; 11:15 am]

BILLING CODE 7570-02-P